DEPARTMENT OF THE INTERIOR

National Park Service

[NPS-WASO-NAGPRA-NPS0032106; PPWOCRADN0-PCU00RP14.R50000]

Notice of Intent To Repatriate Cultural Items: Oregon State University, Corvallis, OR

AGENCY: National Park Service, Interior.

ACTION: Notice.

SUMMARY: The Oregon State University NAGPRA Office, in consultation with the appropriate Indian Tribes or Native Hawaiian organizations, has determined that the cultural items listed in this notice meet the definition of sacred objects. Lineal descendants or representatives of any Indian Tribe or Native Hawaiian organization not identified in this notice that wish to claim these cultural items should submit a written request to the Oregon State University NAGPRA Office. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Oregon State University NAGPRA Office at the address in this notice by July 26, 2021.

FOR FURTHER INFORMATION CONTACT: Dawn Marie Alapisco, Oregon State University NAGPRA Office, 106 Gilkey Hall, Corvallis, OR 97331, telephone (541) 737-4075, email dawnmarie.alapisco@oregonstate.edu.

SUPPLEMENTARY INFORMATION: Notice is here given in accordance with the Native American Graves Protection and Repatriation Act (NAGPRA), 25 U.S.C. 3005, of the intent to repatriate cultural items under the control of Oregon State University, Corvallis, OR, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1978 and 2001, Dr. Roberta Hall of the Oregon State University Anthropology Department conducted seven excavation seasons at Site 35CS043, which is in the City of Bandon, Coos County, OR. Altogether, five areas, designated A through E, were excavated. The 30 sacred objects are 17 lots of worked lithics; 10 lots of worked bone; one lot of mixed technologies; one broken clay vessel; and one lot of photos of the sacred objects.

Site 35CS043 has a very long occupation history. Radiocarbon dating samples sent to Beta Analytics by Dr. Roberta Hall show occupation as early as 2310-1660 BCE. This site was one of three Coquille villages that made up the Nasomah Complex. All three villages were attacked by miners on January 28, 1854, during the Nasomah massacre; up to 21 tribal individuals were reported killed.

The Coos Bay Indians are the ancestors of the present-day Coquille Indian Tribe. They spoke Miluk, a Penutian dialect, and the Coquille/Tututni dialect of Athabaskan. The split between Miluk (Lower Coquille) and Athapaskan (Upper Coquille) is around Randolph Island on the Coquille River. The Coos Bay Indians (now known as the Coquille Indian Tribe) claimed the territory two miles south of the lower Coquille River in a 1935 case before the U.S. Court of Claims. After its Federal recognition was terminated by an Act of Congress in 1954 (finalized 1956), the Coquille Indian Tribe was officially restored to recognized status in 1989.

Through lengthy consultations with the Tribal Historic Preservation Officer (THPO) for the Coquille Indian Tribe, Oregon State University determined that, based on material, form, and function, the items listed in this notice meet the definition of “sacred objects.” The blue schist stone objects originate from “Grandmother Rock,” an individual who, according to Coquille oral tradition, was transmogrified into stone. “Grandmother Rock,” also known as Tupper Rock, was used to make the Bandon jetty; pieces of her returned to the Tribe are given sacred status. The obsidian and CCS were obtained through trade for ceremonial purposes, as these materials are not local to the Bandon area. All the worked bone was of ceremonial quality and typologies. The clay vessel was ceremonial in nature, and the photos are of the technologies listed in this notice.

Determinations Made by Oregon State University

Officials of Oregon State University have determined that:

• Pursuant to 25 U.S.C. 3001(3)(C), the 30 cultural items described above are specific ceremonial objects needed by traditional Native American religious leaders for the practice of traditional Native American religions by their present-day adherents.

• Pursuant to 25 U.S.C. 3001(2), there is a relationship of shared group identity that can be reasonably traced between the sacred objects and the Coquille Indian Tribe [previously listed as Coquille Tribe of Oregon].

Additional Requestors and Disposition

Lineal descendants or representatives of any Indian Tribe or Native Hawaiian organization not identified in this notice that wish to claim these cultural items should submit a written request with information in support of the claim to Dawn Marie Alapisco, Oregon State University NAGPRA Office, 106 Gilkey Hall, Corvallis, OR 97331, telephone (541) 737-4075, email dawnmarie.alapisco@oregonstate.edu, by July 26, 2021. After that date, if no additional claimants have come forward, transfer of control of the sacred objects to the Coquille Indian Tribe [previously listed as Coquille Tribe of Oregon] may proceed.

Oregon State University is responsible for notifying the Coquille Indian Tribe [previously listed as Coquille Tribe of Oregon] that this notice has been published.

Dated: June 9, 2021.
Melanie O'Brien,
Manager, National NAGPRA Program.

[FR Doc. 2021-13511 Filed 6-24-21; 8:45 am]

BILLING CODE 4312-52-P